DEPARTMENT OF ENERGY

Federal Energy Regulatory Commission

[Docket No. CP00-397-000]

PNM Electric and Gas Services, Inc. and PNM Gas Services, a Division of Public Service Company of New Mexico; Notice of Filing

July 11, 2000.

Take notice that on June 29, 2000, PNM Electric and Gas Services, Inc. (UtilityCo), 414 Silver Avenue S.W., Albuquerque, New Mexico, 87158, and PNM Gas Services, a Division of Public Service Company of New Mexco (PNM), Alvarado Square, MN 0920, Albuquerque, New Mexico, 87158, filed in Docket No. CP00-397-000 an application for Natural Gas Act Section 3 authorization and a Presidential Permit for the exportation of natural gas at the international border with Mexico, and for authorization to relinquish the permit that presently grants such authority, all as more fully set forth in the filing which is on file with the Commission and open to public inspection. This filing may be viewed on the web at http://www.ferc.fed.us/online/rims.htm (call 202-208-2222 for assistance).

UtilityCo states that this filing is being made in connection with a corporate reorganization of Public Service Company of New Mexico mandated by the Electric Utility Industry Restructuring Act of 1999 (Restructuring Act). As stated in the application, UtilityCo's requested Section 3 authorization and Presidential Permit are for the facilities and operations for which the Commission issued Section 3 authorization and a Presidential Permit to PNM in Docket No. CP93-98-000. It is also stated that PNM proposes to relinquish its Presidential Permit issued in Docket No. CP93-98-000 effective on the date on which the Presidential Permit and Section 3 authorization are issued to UtilityCo. It is stated that the purpose and substantive effect will be to permit the PNM corporate family to continue to conduct the same business activity previously authorized by the Commission but using new corporate entities required by the Restructuring Act. UtilityCo states that it is not seeking any authorizations that are different from those held by PNM. It is also stated that upon the receipt of the necessary regulatory approvals, including the Commission's disposition of this application, the existing gas transmission and distribution facilities and operations of PNM will be acquired by and operated by UtilityCo. It is further stated that UtilityCo, as the successor to PNM, will be a natural gas distribution company with facilities located entirely within the State of New Mexico, and that all of the gas purchased by UtilityCo will be subject to regulation by the New Mexico Public Regulation Commission with respect to its natural gas rates, services and facilities. The contact person for this filing is Thomas J. Wander, Director, Gas Regulatory Policy, Public Service Company of New Mexico, Alvarado Square, MS 0920, Albuquerque, New Mexico 87158, (505) 241-2479.

Any person desiring to be heard or to make any protest with reference to said filing should, on or before August 1, 2000, file with the Federal Energy Regulatory Commission, Washington, D.C., 20426, a protest or motion to intervene in accordance with the requirements of Rule 211 or 214 of the Commission's rules of Practice and Procedure (18 CFR 385.211 or 385.214). All protests filed with the Commission will be considered in determining the appropriate action to be taken, but will not serve to make the Protestants parties to the proceeding. Any person wishing to become a party to a proceeding or to participate as a party in any hearing therein must file a motion to intervene in accordance with the Commission's Rules.

David P. Boergers,
Secretary.

[FR Doc. 00-17959 Filed 7-14-00; 8:45 am]

BILLING CODE 6717-01-M